DEPARTMENT OF VETERANS AFFAIRS

[OMB Control No. 2900-0764]

Proposed Information Collection (SURVEY OF HEALTHCARE EXPERIENCES; DENTAL PATIENT SATISFACTION SURVEY) Activity: Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to identify areas for improvement in clinical training programs.

DATES: Written comments and recommendations on the proposed collection of information should be received on or before October 2, 2015.

ADDRESSES: Submit written comments on the collection of information through the Federal Docket Management System (FDMS) at www.Regulations.gov; or to Brian McCarthy, Office of Regulatory and Administrative Affairs, Veterans Health Administration (10B4), Department of Veterans Affairs, 810 Vermont Avenue NW., Washington, DC 20420 or email: Brian.McCarthy4@va,gov. Please refer to “OMB Control No. 2900-0764” in any correspondence. During the comment period, comments may be viewed online through FDMS.

FOR FURTHER INFORMATION CONTACT: Brian McCarthy at (202) 461-6345.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles:

1. SURVEY OF HEALTHCARE EXPERIENCES DENTAL PATIENT SATISFACTION SURVEY.

2. OMB Control Number: 2900-0764.

Type of Review: Extension of a currently approved collection.

Abstracts: The mission of the Veterans Health Administration (VHA) is to provide high quality medical and dental care to eligible veterans. Executive Order 12862, dated September 11, 1993, calls for the establishment and implementation of customer service standards, and for agencies to “survey customers to determine the kind and quality of services they want and their level of satisfaction with current services”. At present, VA does not specifically evaluate patient satisfaction for over 400,000 veterans receiving dental services each year.

The Dental Patient satisfaction survey is comprised primarily of questions taken from two validated and extensively tested surveys. The first survey is the VA Nation-wide Customer Satisfaction Survey: Survey of Health Experience of Patients (SHEP); this has OMB approval under clearance number 2900-0712. The second survey, Dental Consumer Assessment of Healthcare Provider and Systems (DCAHPS), was developed by the Agency for Healthcare Research and Quality (AHRQ). The psychometric properties of this survey are well documented and the survey has been used extensively in measuring patient satisfaction for TRICARE dental services.

Affected Public: Individuals or households.

Estimated Annual Burden:

a. Survey of Health Care Experiences Dental Patient Satisfaction Survey, VA Form 10-10070—9,146 hours.

Estimated Average Burden per Respondent:

a. Survey of Health Care Experiences Dental Patient Satisfaction Survey, VA Form 10-10070—15 minutes.

Frequency of Response: Annually.

Estimated Annual Responses:

a. Survey of Health Care Experiences Dental Patient Satisfaction Survey, VA Form 10-10070—36,585.

By direction of the Secretary.
Kathleen M. Manwell,
Program Analyst, VA Privacy Service, Office of Privacy and Records Management, Department of Veterans Affairs.

[FR Doc. 2015-18928 Filed 7-31-15; 8:45 am]

BILLING CODE 8320-01-P